DEPARTMENT OF THE INTERIOR

Bureau of Ocean Energy Management, Regulation and Enforcement

[Docket ID No. BOEM-2010-0055]

BOEMRE Information Collection Activity: 1010-0149, Subpart I, Platforms and Structures, Renewal of a Collection; Submitted for Office of Management and Budget (OMB) Review; Comment Request

AGENCY: Bureau of Ocean Energy Management, Regulation and Enforcement (BOEMRE), Interior.

ACTION: Notice of renewal of an information collection (1010-0149).

SUMMARY: To comply with the Paperwork Reduction Act of 1995 (PRA), we are notifying the public that we have submitted to OMB an information collection request (ICR) to renew approval of the paperwork requirements in the regulations under 30 CFR part 250, subpart I, Platforms and Structures, and related documents. This notice also provides the public a second opportunity to comment on the paperwork burden of these regulatory requirements.

DATES: Submit written comments by April 28, 2011.

ADDRESSES: Submit comments by either fax (202) 395-5806 or e-mail (OIRA_DOCKET@omb.eop.gov) directly to the Office of Information and Regulatory Affairs, OMB, Attention: Desk Officer for the Department of the Interior (1010-0149). Please also submit a copy of your comments to BOEMRE by any of the means below.

• Electronically: go to http://www.regulations.gov. In the entry titled, “Enter Keyword or ID,” enter BOEM-2010-0055 then click search. Follow the instructions to submit public comments and view supporting and related materials available for this collection. BOEMRE will post all comments.

• E-mail cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0149 in your comment and include your name and return address.

FOR FURTHER INFORMATION CONTACT: Cheryl Blundon, Regulations and Standards Branch, (703) 787-1607. To see a copy of the entire ICR submitted to OMB, go to http://www.reginfo.gov (select Information Collection Review, Currently Under Review).

SUPPLEMENTARY INFORMATION: Title: 30 CFR 250, Subpart I, Platforms and Structures.

OMB Control Number: 1010-0149.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations apply to all operations conducted under a lease, right-of-use and easement, or pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 43 U.S.C. 1356 requires the issuance of “* * * regulations which require that any vessel, rig, platform, or other vehicle or structure * * * (2) which is used for activities pursuant to this subchapter, comply * * * with such minimum standards of design, construction, alteration, and repair as the Secretary * * * establishes * * * .” Section 43 U.S.C. 1332(6) also states “operations in the [O]uter Continental Shelf should be conducted in a safe manner * * * to prevent or minimize the likelihood of * * * physical obstruction to other users of the water or subsoil and seabed, or other occurrences which may cause damage to the environment or to property, or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BOEMRE is required to charge fees for services that provide special benefits or privileges to an identifiable non-Federal recipient above and beyond those that accrue to the public at large. Platform applications are subject to cost recovery, and BOEMRE regulations specify service fees for these requests.

These authorities and responsibilities are among those delegated to BOEMRE to ensure that operations in the OCS will meet statutory requirements; provide for safety and protection of the environment; and result in diligent exploration, development, and production of OCS leases. This ICR addresses the regulations at 30 CFR part 250, subpart I, Platforms and Structures, and the associated supplementary notices to lessees and operators (NTLs) intended to provide clarification, description, or explanation of these regulations.

Responses are mandatory or required to obtain or retain a benefit. No questions of a sensitive nature are asked. BOEMRE will protect proprietary information according to the Freedom of Information Act (5 U.S.C. 552) and its implementing regulations (43 CFR 2), 30 CFR 250.197 (Data and information to be made available to the public or for limited inspection), and 30 CFR part 252 (OCS Oil and Gas Information Program).

BOEMRE uses the information submitted under Subpart I to determine the structural integrity of all OCS platforms and floating production facilities and to ensure that such integrity will be maintained throughout the useful life of these structures. We use the information to ascertain, on a case-by-case basis, that the fixed and floating platforms and structures are structurally sound and safe for their intended use to ensure safety of personnel and prevent pollution. More specifically, we use the information to:

• Review data concerning damage to a platform to assess the adequacy of proposed repairs.

• Review applications for platform construction (construction is divided into three phases—design, fabrication, and installation) to ensure the structural integrity of the platform.

• Review verification plans and third-party reports for unique platforms to ensure that all nonstandard situations are given proper consideration during the platform design, fabrication, and installation.

• Review platform design, fabrication, and installation records to ensure that the platform is constructed according to approved applications.

• Review inspection reports to ensure that platform integrity is maintained for the life of the platform.

Frequency: On occasion.

Description of Respondents: Potential respondents comprise Federal oil and gas OCS lessees and their Certified Verification Agents and/or other third-party reviewers of production facilities.

Estimated Reporting and Recordkeeping Hour Burden: The estimated annual hour burden for this information collection is a total of 116,341 hours. The following table details the individual components and estimated hour burdens. In calculating the burdens, we assumed that respondents perform certain requirements in the normal course of their activities. We consider these to be usual and customary and took that into account in estimating the burden.

Citation 30 CFR 250 Subpart I and related NTLs | Reporting and/or recordkeeping requirement | Non-Hour cost burdens*: Hour burden | Non-Hour cost burdens*: Average No. of annual reponses | Non-Hour cost burdens*: Annual burden hours
General Requirements for Platforms
900(b), (c), (e); 905; 906; 910(c), (d); 911(c), (g); 912; 913; 919; NTL(s) | Submit application, along with reports/surveys and relevant data, to install new platform or floating production facility or significant changes to approved applications, including use of alternative codes, rules, or standards; CVA changes; and Platform Verification Program (PVP) plan for design, fabrication and installation of new, fixed, bottom-founded, pile-supported, or concrete-gravity platforms and new floating platforms. Consult as required with BOEMRE and/or USCG. Re/Submit application for major modification(s)/repairs to any platform; and related requirements | 102 | 105 applications | 10,710
|  | $21,075 x 1 PVP = $21,075
|  | $3,018 x 15 fixed structure = $45,270
|  | $1,536 x 27 Caisson/Well Protector = $41,472
|  | $3,601 x 62 modifications/repairs = $223,262
900(b)(4) | Submit application for approval to convert an existing platform to a new purpose | 60 | 5 applications | 300
900(b)(5) | Submit application for conversion of the use of an existing mobile offshore drilling unit | 120 | 2 applications | 240
900(c) | Notify BOEMRE within 24 hours of damage and emergency repairs and request approval of repairs. Submit written completion report within 1 week upon completion of repairs | 4 20 | 12 notices/requests; reports | 48 240
900(e) | Submit platform installation date and the final as-built location data to the Regional Supervisor within 45 days after platform installation | 20 | 140 submittals | 2,800
900(e) | Resubmit an application for approval to install a platform if it was not installed within 1 year after approval (or other date specified by BOEMRE) | 50 | 5 applications | 250
903 | Record original and relevant material test results of all primary structural materials; retain records during all stages of construction. Compile, retain, and provide location/make available to BOEMRE for the functional life of platform, the as-built drawings, design assumptions/analyses, summary of nondestructive examination records, inspection results, and records of repair not covered elsewhere | 160 | 130 lessees | 20,800
903(c); 905(k) | Submit certification statement [a certification statement is not considered information collection under 5 CFR 1320.3(h)(1); the burden is for the insertion of the location of the records on the statement and the submittal to BOEMRE] | This statement is submitted with the application. |  | 0
905(i) | Provide a summary of safety factors utilized in the design of the platform | .25 | 331 summaries | 83 (rounded)
| 730 responses | 35,471 hours
Subtotal | $331,079 Non-Hour Cost Burdens
Platform Verification Program
911(c-e); 912(a-c); 914; | Submit complete schedule of all phases of design, fabrication, and installation with required information; also submit Gantt Chart with required information and required nomination/documentation for CVA | 130 | 5 schedules | 650
912(a) | Submit design verification plans with your DPP or DOCD | Burden covered under 1010-0151. |  | 0
913(a) | Resubmit a changed design, fabrication, or installation verification plan for approval | 60 | 2 plans | 120
916(c) | Submit interim and final CVA reports and recommendations on design phase | 250 | 10 reports | 2,500
917(a), (c) | Submit interim and final CVA reports and recommendations on fabrication phase, including notices to BOEMRE and operator/lessee of fabrication procedure changes or design specification modifications | 150 | 10 reports | 1,500
918(c) | Submit interim and final CVA reports and recommendations on installation phase | 130 | 10 reports | 1,300
Subtotal | 37 responses | 6,070 hours
Inspection, Maintenance, and Assessment of Platforms
919(a) | Develop in-service inspection plan and keep on file. Submit annual (November 1 of each year) report on inspection of platforms or floating production facilities, including summary of testing results | 130 | 130 lessees | 16,900
919(b) NTL | After an environmental event, submit to Regional Supervisor initial report followed by updates and supporting information | 25 (initial) 15 (update) | 150 reports 90 reports | 3,750 1,350
919(c) NTL | Submit results of inspections | 150 | 200 results | 30,000
920(a) | Demonstrate platform is able to withstand environmental loadings for appropriate exposure category | 30 | 400 occurrences | 12,000
920(c) | Submit application and obtain approval from the Regional Supervisor for mitigation actions (includes operational procedures) | 40 | 200 submittals | 8,000
920(e) | Submit a list of all platforms you operate, and appropriate supporting data, every 5 years or as directed by the Regional Supervisor | 100 | 130 operators/5 years = 26 per year | 2,600
920(f) | Obtain approval from the Regional Supervisor for any change in the platform | 50 | 2 | 100
Subtotal | 1,198 responses | 74,700 hours
General Departure
900 thru 921 | General departure and alternative compliance requests not specifically covered elsewhere in Subpart I regulations | 10 hours | 10 requests | 100 hours
| 1,975 Responses | 116,341 Hours
TOTAL BURDEN | $331,079 Non-Hour Cost Burdens
* The non-hour cost burdens associated with this ICR relate to cost recovery fees. These fees are based on actual monies received in FY2010 thru the Pay.gov system.

Estimated Reporting and Recordkeeping Non-Hour Cost Burden: We have identified four paperwork non-hour cost burdens associated with the collection of information. The costs are specifically broken out in the burden table. The non-hour costs are for: installation under the Platform Verification Program; installation of fixed structures under the Platform Approval Program; installation of Caisson/Well Protectors; and modifications and/or repairs. We have not identified any other non-hour cost burdens associated with this collection of information. We estimate a total reporting non-hour cost burden of $331,079.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 9, 2010, we published a Federal Register notice (75 FR 68814) announcing that we would submit this ICR to OMB for approval. The notice provided the required 60-day comment period. In addition, § 250.199 provides the OMB control number for the information collection requirements imposed by the 30 CFR part 250 regulations. The regulation also informs the public that they may comment at any time on the collections of information and provides the address to which they should send comments. We have received one comment in response to these efforts. The comment received was from another government agency, and it did not affect the paperwork burden, but was in support of the collection of such information.

If you wish to comment in response to this notice, you may send your comments to the offices listed under the ADDRESSES section of this notice. The OMB has up to 60 days to approve or disapprove the information collection but may respond after 30 days. Therefore, to ensure maximum consideration, OMB should receive public comments by April 28, 2011.

Public Availability of Comments: Before including your address, phone number, email address, or other personal identifying information in your comment, you should be aware that your entire comment-including your personal identifying information-may be made publicly available at any time. While you can ask us in your comment to withhold your personal identifying information from public review, we cannot guarantee that we will be able to do so.

BOEMRE Information Collection Clearance Officer: Arlene Bajusz, (703) 787-1025.

Dated: February 15, 2011.
Doug Slitor,
Acting Chief, Office of Offshore Regulatory Programs.

[FR Doc. 2011-7254 Filed 3-28-11; 8:45 am]

BILLING CODE 4310-MR-P